DEPARTMENT OF VETERANS AFFAIRS

[OMB Control No. 2900-0208]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before March 3, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0208.”

Send comments and recommendations concerning any aspect of the information collection to VA's OMB Desk Officer, OMB Human Resources and Housing Branch, New Executive Office Building, Room 10235, Washington, DC 20503 (202) 395-7316. Please refer to “OMB Control No. 2900-0208” in any correspondence.

SUPPLEMENTARY INFORMATION:

Titles:

a. VA Form 10-6131, Daily Log—Formal Contract.

b. VA Form 10-6298, Architect—Engineer Fee Proposal.

OMB Control Number: 2900-0208.

Type of Review: Extension of a currently approved collection.

Abstract:

a. VA Form 10-6131 is used by contractors to record the data necessary to assure that sufficient labor and materials were used to accomplish the contract work.

b. VA Form 10-6298 is used by architect-engineering firms to submit a fee proposal to VA on the scope and complexity of an individual project.

An agency may not conduct or sponsor, and a person is not required to respond to a collection of information unless it displays a currently valid OMB control number. The Federal Register Notice with a 60-day comment period soliciting comments on this collection of information was published on October 15, 2002, at pages 63734-63735.

Affected Public: Business or other for-profit.

Estimated Annual Burden: 4,600 hours.

a. VA Form 10-6131—3,600.

b. VA Form 10-6298—1,000.

Estimated Average Burden Per Respondent:

a. VA Form 10-613—12 minutes.

b. VA Form 10-6298—4 hours.

Frequency of Response: On occasion.

Estimated Number of Respondents: 18,250.

a. VA Form 10-6131—18,000.

b. VA Form 10-6298—250.

Dated: January 14, 2003.
By direction of the Secretary.
Loise A. Russell,
Acting Director, Records Management Service.

[FR Doc. 03-2120 Filed 1-29-03; 8:45 am]

BILLING CODE 8320-01-P